DEPARTMENT OF EDUCATION

National Institute on Disability and Rehabilitation Research (NIDRR)—Disability and Rehabilitation Research Projects and Centers Program—Rehabilitation Engineering Research Centers (RERCs)

Catalog of Federal Domestic Assistance (CFDA) Numbers: 84.133E-1 and 84.133E-3

AGENCY: Office of Special Education and Rehabilitative Services, Department of Education.

ACTION: Notice of final priorities for two RERCs.

SUMMARY: The Assistant Secretary for Special Education and Rehabilitative Services announces two priorities for the Disability and Rehabilitation Research Projects and Centers Program administered by NIDRR. Specifically, this notice announces two priorities for RERCs: Universal Design in the Built Environment and Technologies for Children with Orthopedic Disabilities. The Assistant Secretary may use these priorities for competitions in fiscal year (FY) 2010 and later years. We take this action to focus research attention on areas of national need. We intend these priorities to improve rehabilitation services and outcomes for individuals with disabilities.

DATES: Effective Date: The priorities are effective July 12, 2010.

FOR FURTHER INFORMATION CONTACT: Marlene Spencer, U.S. Department of Education, 400 Maryland Avenue, SW., room 5133, Potomac Center Plaza (PCP), Washington, DC 20202-2700. Telephone: (202) 245-7532 or by e-mail: marlene.spencer@ed.gov.

If you use a telecommunications device for the deaf (TDD), call the Federal Relay Service (FRS), toll free, at 1-800-877-8339.

SUPPLEMENTARY INFORMATION: This notice of final priorities (NFP) is in concert with NIDRR's Final Long-Range Plan for FY 2005-2009 (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings. This notice announces two priorities that NIDRR intends to use for RERC competitions in FY 2010 and possibly later years. However, nothing precludes NIDRR from publishing additional priorities, if needed. Furthermore, NIDRR is under no obligation to make awards for these priorities. The decision to make an award will be based on the quality of applications received and available funding.

Purpose of Program: The purpose of the Disability and Rehabilitation Research Projects and Centers Program is to plan and conduct research, demonstration projects, training, and related activities, including international activities; to develop methods, procedures, and rehabilitation technology that maximize the full inclusion and integration into society, employment, independent living, family support, and economic and social self-sufficiency of individuals with disabilities, especially individuals with the most severe disabilities; and to improve the effectiveness of services authorized under the Rehabilitation Act of 1973, as amended (Rehabilitation Act).

Rehabilitation Engineering Research Centers Program (RERCs)

The purpose of the RERC program is to improve the effectiveness of services authorized under the Rehabilitation Act by conducting advanced engineering research and development on innovative technologies that are designed to solve particular rehabilitation problems, or to remove environmental barriers. RERCs also demonstrate and evaluate such technologies, facilitate service delivery system changes, stimulate the production and distribution of new technologies and equipment in the private sector, and provide training opportunities.

General Requirements of RERCs

RERCs carry out research or demonstration activities in support of the Rehabilitation Act by—

• Developing and disseminating innovative methods of applying advanced technology, scientific achievement, and psychological and social knowledge: (a) To solve rehabilitation problems and to remove environmental barriers; and (b) to study and evaluate new or emerging technologies, products, or environments and their effectiveness and benefits; or

• Demonstrating and disseminating: (a) Innovative models for the delivery of cost-effective rehabilitation technology services to rural and urban areas; and (b) other scientific research to assist in meeting the employment and independent living needs of individuals with severe disabilities; and

• Facilitating service delivery systems change through: (a) The development, evaluation, and dissemination of innovative, consumer-responsive, and individual- and family-centered models for the delivery to both rural and urban areas of innovative cost-effective rehabilitation technology services; and (b) other scientific research to assist in meeting the employment and independence needs of individuals with severe disabilities.

Each RERC must be operated by, or in collaboration with, one or more institutions of higher education or one or more nonprofit organizations.

Each RERC must provide training opportunities, in conjunction with institutions of higher education or nonprofit organizations, to assist individuals, including individuals with disabilities, to become rehabilitation technology researchers and practitioners.

Each RERC must emphasize the principles of universal design (UD) in its product research and development. UD is “the design of products and environments to be usable by all people, to the greatest extent possible, without the need for adaptation or specialized design” (North Carolina State University, 1997. http://www.design.ncsu.edu/cud/about_ud/udprinciplestext.htm).

Additional information on the RERC program can be found at: http://www.ed.gov/rschstat/research/pubs/index.html.

Program Authority: 29 U.S.C. 762(g) and 764(a).

Applicable Program Regulations: 34 CFR part 350.

We published a notice of proposed priorities (NPP) for NIDRR's Rehabilitation Engineering Research Centers Program in the Federal Register on April 9, 2010 (75 FR 18185). The NPP included two background statements that described our rationale for the priorities proposed in that notice.

There are no differences between the NPP and this NFP as discussed in the following section.

Public Comment: In response to our invitation in the NPP, five parties submitted comments on the proposed priorities. An analysis of the comments and of any changes in the priority since publication of the NPP follows.

Generally, we do not address technical and other minor changes, or suggested changes the law does not authorize us to make under the applicable statutory authority. In addition, we do not address general comments that raised concerns not directly related to the proposed priority.

Analysis of Comments and Changes

General Comment: In reference to both RERC priorities in this notice, one commenter asked whether NIDRR would allow centers to support undergraduate and graduate students as support staff and to build those students' capacity to engage in future rehabilitation research and development.

Discussion: Nothing in the priority precludes applicants from proposing to use students as support staff.

Changes: None.

Comment: One commenter asked whether NIDRR would allow knowledge transfer to a foreign company, as long as that company meets the needs of U.S. citizens with disabilities.

Discussion: Nothing in these priorities restricts the transfer of technologies to companies outside of the U.S.

Changes: None.

Proposed Priority 1—Universal Design in the Built Environment

Comment: One commenter discussed the relationship between UD and industrial design and asked whether applicants could propose activities that involve industrial design departments or schools.

Discussion: Applicants are free to propose work that involves industrial design departments or schools to meet the requirements of this priority.

Changes: None.

Comment: Two commenters suggested that NIDRR revise the second sentence of this priority to emphasize UD applications in buildings and facilities that are used by the public.

Discussion: Nothing in the priority precludes applicants from proposing projects that emphasize buildings and facilities that are used by the public. However, NIDRR does not wish to preclude applicants from proposing promising research and development projects that emphasize UD in other important areas of the built environment and therefore declines to make the change suggested by the commenter.

Changes: None.

Comment: Two commenters noted that this priority should emphasize the need for greater accessibility in single family dwellings.

Discussion: Nothing in the priority precludes applicants from proposing projects that emphasize the importance of accessibility in single family dwellings. However, NIDRR does not believe it is appropriate to require all applicants to do so because it does not wish to preclude applicants from proposing promising research and development projects that focus on other categories of housing.

Changes: None.

Comment: One commenter recommended that the RERC funded under this priority be required to utilize a large sample of end users to validate all emerging standards and guidelines for UD to help ensure that such standards and guidelines are developed with, not just for, people with disabilities.

Discussion: NIDRR agrees that it is important to involve individuals with disabilities in their research and development projects. This priority requires all RERCs to implement a plan that describes how they will include individuals with disabilities in all phases of its activities. Nothing in the priority precludes applicants from proposing to use a large sample of end users to validate UD standards and guidelines that emerge from the RERC. However, NIDRR does not believe it is appropriate to require all applicants to do so because NIDRR does not wish to preclude other valid and innovative means of fulfilling this requirement or of including individuals with disabilities in the activities of the RERC funded under this priority.

Changes: None.

Comment: One commenter suggested that NIDRR revise the priority to require the RERC to produce “environmentally, economically, and socially sustainable” UD exemplars, instead of “economically viable” UD exemplars.

Discussion: Engineers, designers, and manufacturers have argued that UD is costly and complex to implement. NIDRR is interested in supporting the production of economically viable UD exemplars to demonstrate the feasibility of using UD applications in real-world settings to facilitate independence and social participation among end users. Nothing in the priority precludes applicants from including the concept of “environmentally, economically, and socially sustainable” UD in relation to the economically viable UD exemplars that they are required to create under this priority. However, NIDRR does not have a sufficient basis for requiring all applicants to design their exemplars with these goals in mind.

Changes: None.

Comment: One commenter suggested that NIDRR be more descriptive in requiring the development of evidence-based practices for UD. In this context, this commenter suggested that the priority require benchmarking, encourage indexing, and focus on “end user outcomes.”

Discussion: Applicants are free to choose from among a variety of methodologies and approaches, including benchmarking, indexing, and focusing on a variety of end user outcomes, to create evidence-based UD practices so long as they justify how the selected approach contributes to evidence. NIDRR does not believe it is appropriate to limit the priority by specifying specific methods for developing evidence-based practices for UD. NIDRR does not wish to preclude viable and innovative methods for developing evidence-based practices in UD by requiring specific methods or approaches.

Changes: None.

Comment: One commenter recommended that the requirement for design of UD curricula be revised to more clearly distinguish between UD and other types of design, including “accessible design,” “inclusive design,” and “design for all.”

Discussion: In fulfilling the requirement for the design of UD curricula for university-level engineering and design students, applicants are free to propose an approach that distinguishes UD from other types of design. However, NIDRR does not have a sufficient basis for requiring all applicants to follow this approach.

Changes: None.

Comment: One commenter suggested that NIDRR provide examples of the means by which the RERC must assist designers, builders, and manufacturers to incorporate UD into their buildings and communities.

Discussion: The general RERC requirements that are applicable to both RERCs in this notice include a number of examples of activities that can be used to fulfill this requirement. These activities include collaborating with relevant industry and professional associations, communicating with manufacturers and other interested parties regarding trends and evolving product concepts, and provision of technical assistance. Given this specificity in the RERC requirements, and NIDRR's wish to enhance competition by allowing a wide range of potential approaches to this requirement, we do not have a sufficient basis for further specifying the means by which the RERC must assist designers, builders, and manufacturers to incorporate UD into their buildings and communities.

Changes: None.

Proposed Priority 2—Technologies for Children With Orthopedic Disabilities

Comment: One commenter asked whether applicants can propose to include children whose disabilities resemble those mentioned in the NPP, but that are not specifically listed.

Discussion: The Department bases the term orthopedic disability on the definition of the term orthopedic impairment in 34 CFR 300.8(c)(8). Under this definition, an orthopedic impairment means a severe orthopedic impairment that adversely affects a child's performance. As noted in the background statement for this priority in the NPP, the term includes impairments caused by a congenital anomaly, impairments caused by disease (e.g., poliomyelitis, bone tuberculosis), and impairments from other causes (e.g., cerebral palsy, amputations, and fractures or burns that cause contractures). This list is not intended to be exhaustive. Applicants have the flexibility to specify their target population for the purposes of their proposed projects, provided that the target population has a “severe orthopedic impairment that adversely affects a child's performance.”

Changes: None.

Comment: One commenter asked whether language and cognition issues can serve as the focus of this RERC if they are present in children with orthopedic disabilities. This commenter also asked whether these issues could be addressed if an applicant made the case that they were important in combination with physical impairments.

Discussion: According to the priority, the work of this RERC must focus on innovative technologies and new knowledge that will improve the lives of children with orthopedic disabilities. The priority specifies that the RERC must contribute to the improvement of mobility and manipulation functions among children with orthopedic disabilities as they perform daily tasks and activities at home, at school, and in the community. At the same time, nothing in the priority precludes applicants from proposing research and development that also addresses outcomes other than mobility and manipulation.

Changes: None.

Comment: One commenter asked whether applicants can utilize “surrogates” of children with orthopedic disabilities to serve on the RERC in an advisory capacity, because children typically do not serve on advisory committees and cannot be employed by the RERC.

Discussion: Yes, representatives of children with orthopedic disabilities may serve on the RERC in an advisory capacity. The RERC is required to propose and implement a plan for the inclusion of individuals with disabilities or their representatives in all phases of its activities, including research, development, training, dissemination, and evaluation.

Changes: None.

Comment: One commenter suggested that NIDRR remove the term “assistive devices” from the third sentence of this priority, noting that the term suggests a focus that is limited only to wheelchairs and prostheses.

Discussion: Nothing in the priority or in the term “assistive devices” limits applicants to a focus on wheelchairs or prostheses. Assistive devices, in the context of this priority, are intended to refer to a wide range of devices that can be used by children with orthopedic disabilities. For this reason, we do not believe a change to the priority is necessary.

Changes: None.

Comment: One commenter stated that this priority should focus on longer term outcomes of technology use, such as engagement and participation, instead of focusing on improving the availability and usability of assistive devices.

Discussion: Nothing in the priority precludes applicants from proposing research and development projects that measure the impact of technologies and assistive devices on the engagement and participation of children with orthopedic disabilities. However, NIDRR believes that it is first necessary to improve the availability and usability of technologies and assistive devices for this population. Such technologies and devices must be available and usable before they can be expected to have an effect on the engagement and participation of children.

Changes: None.

Comment: One commenter suggested that NIDRR change the last sentence of this priority to require the RERC to “design, develop, implement, and evaluate” rehabilitation therapy technologies, instead of only being required to “develop, test, and implement” rehabilitation therapy technologies.

Discussion: NIDRR is interested in the development and implementation of rehabilitation therapy technologies for use with children with orthopedic disabilities. Prior to implementation, newly developed technologies must be tested for usability and effectiveness. Nothing in the priority, however, precludes applicants from proposing to add a design step prior to the development of rehabilitation technologies or from adding an evaluation step following implementation. However, NIDRR does not have a sufficient basis for further specifying the detailed requirements that the RERC must follow to reach its goal of new rehabilitation therapy technologies for use among this population.

Changes: None.

Final Priorities

This notice contains two final priorities.

Final Priority 1—Universal Design in the Built Environment

The Assistant Secretary for Special Education and Rehabilitative Services announces a priority for a Rehabilitation Engineering Research Center (RERC) on Universal Design (UD) in the Built Environment. Under this priority, the RERC must research, develop, evaluate, and promote UD in commercial and private facilities, outdoor environments, and housing. In addition, the RERC must create measurable UD standards and guidelines to facilitate the implementation of UD principles, create economically viable UD exemplars, aid in the development of evidence-based practices for UD, and help to design curricula on UD for university-level engineering and design students. The RERC must assist designers, builders, and manufacturers to incorporate UD into their buildings and communities.

Final Priority 2—Technologies for Children With Orthopedic Disabilities

The Assistant Secretary for Special Education and Rehabilitative Services announces a priority for a Rehabilitation Engineering Research Center (RERC) on Technologies for Children with Orthopedic Disabilities. This RERC will focus on innovative technologies and new knowledge that will improve the lives of children with orthopedic disabilities. Under this priority, the RERC must research, develop, apply, and evaluate new or existing technologies and approaches to improve the availability and usability of assistive devices for children with orthopedic disabilities. This work must contribute to the improvement of mobility and manipulation functions among children with orthopedic disabilities as they perform daily tasks and activities at home, at school, and in the community. In addition, the RERC must develop, test, and implement rehabilitation therapy technologies and strategies for use with children with orthopedic disabilities.

Requirements Applicable to Both Final Priorities

The RERC established under each of the final priorities in this notice must be designed to contribute to the following outcomes:

(1) Increased technical and scientific knowledge relevant to its designated priority research area. The RERC must contribute to this outcome by conducting high-quality, rigorous research and development projects.

(2) Increased innovation in technologies, products, environments, performance guidelines, and monitoring and assessment tools applicable to its designated priority research area. The RERC must contribute to this outcome through the development and testing of these innovations.

(3) Improved research capacity in its designated priority research area. The RERC must contribute to this outcome by collaborating with the relevant industry, professional associations, institutions of higher education, health care providers, or educators, as appropriate.

(4) Improved awareness and understanding of cutting-edge developments in technologies within its designated priority research area. The RERC must contribute to this outcome by identifying and communicating with NIDRR, individuals with disabilities, their representatives, disability organizations, service providers, professional journals, manufacturers, and other interested parties regarding trends and evolving product concepts related to its designated priority research area.

(5) Increased impact of research in the designated priority research area. The RERC must contribute to this outcome by providing technical assistance to relevant public and private organizations, individuals with disabilities, employers, and schools on policies, guidelines, and standards related to its designated priority research area.

(6) Increased transfer of RERC-developed technologies to the marketplace. The RERC must contribute to this outcome by developing and implementing a plan for ensuring that all technologies developed by the RERC are made available to the public. The technology transfer plan must be developed in the first year of the project period in consultation with the NIDRR-funded Disability Rehabilitation Research Project, Center on Knowledge Translation for Technology Transfer.

In addition, under each priority, the RERC must—

• Have the capability to design, build, and test prototype devices and assist in the technology transfer and knowledge translation of successful solutions to relevant production and service delivery settings;

• Evaluate the efficacy and safety of its new products, instrumentation, or assistive devices;

• Provide as part of its proposal, and then implement, a plan that describes how it will include, as appropriate, individuals with disabilities or their representatives in all phases of its activities, including research, development, training, dissemination, and evaluation;

• Provide as part of its proposal, and then implement, in consultation with the NIDRR-funded National Center for the Dissemination of Disability Research, a plan to disseminate its research results to individuals with disabilities, their representatives, disability organizations, service providers, professional journals, manufacturers, and other interested parties;

• Conduct a state-of-the-science conference on its designated priority research area in the fourth year of the project period, and publish a comprehensive report on the final outcomes of the conference in the fifth year of the project period; and

• Coordinate research projects of mutual interest with relevant NIDRR-funded projects, as identified through consultation with the NIDRR project officer.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use these priorities, we invite applications through a notice in the Federal Register.

Executive Order 12866: This notice has been reviewed in accordance with Executive Order 12866. Under the terms of the order, we have assessed the potential costs and benefits of this regulatory action.

The potential costs associated with this regulatory action are those resulting from statutory requirements and those we have determined as necessary for administering this program effectively and efficiently.

In assessing the potential costs and benefits—both quantitative and qualitative—of this regulatory action, we have determined that the benefits of the final priorities justify the costs.

Discussion of Costs and Benefits: The benefits of the Disability and Rehabilitation Research Projects and Centers Programs have been well established over the years in that similar projects have been completed successfully. These final priorities will generate new knowledge through research and development. Another benefit of these final priorities is that the establishment of new RERCs will improve the lives of individuals with disabilities. The new RERCs will generate, disseminate, and promote the use of new information that will improve the options for individuals with disabilities to fully participate in their communities.

Intergovernmental Review: This program is not subject to Executive Order 12372 and the regulations in 34 CFR part 79.

Accessible Format: Individuals with disabilities can obtain this document in an accessible format (e.g., braille, large print, audiotape, or computer diskette) by contacting the Grants and Contracts Services Team, U.S. Department of Education, 400 Maryland Avenue, SW., room 5075, Potomac Center Plaza, Washington, DC 20202-2550.

Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: June 8, 2010.
Alexa Posny,
Assistant Secretary for Special Education and Rehabilitative Services.

[FR Doc. 2010-14126 Filed 6-10-10; 8:45 am]

BILLING CODE 4000-01-P